DEPARTMENT OF THE INTERIOR

National Park Service

[NPS-WASO-NAGPRA-NPS0039141; PPWOCRADN0-PCU00RP14.R50000]

Notice of Intended Repatriation: Riley County Historical Society and Museum, Manhattan, KS

AGENCY: National Park Service, Interior.

ACTION: Notice.

SUMMARY: In accordance with the Native American Graves Protection and Repatriation Act (NAGPRA), the Riley County Historical Society and Museum (RCHSM) intends to repatriate certain cultural items that meet the definition of unassociated funerary objects and that have a cultural affiliation with the Indian Tribes or Native Hawaiian organizations in this notice.

DATES: Repatriation of the cultural items in this notice may occur on or after January 6, 2025.

ADDRESSES: Dawn Munger, Curator of Collections, Riley County Historical Society and Museum, 2309 Claflin Road, Manhattan, KS 66502, telephone (785) 565-6490, email dmunger@rileycountyks.gov and Katharine Hensler, Director, Riley County Historical Society and Museum, 2309 Claflin Road, Manhattan, KS 66502, telephone (785) 565-6490, email khensler@rileycountyks.gov.

SUPPLEMENTARY INFORMATION: This notice is published as part of the National Park Service's administrative responsibilities under NAGPRA. The determinations in this notice are the sole responsibility of the RCHSM, and additional information on the determinations in this notice, including the results of consultation, can be found in the summary or related records. The National Park Service is not responsible for the determinations in this notice.

Abstract of Information Available

A total of 15 cultural items have been requested for repatriation. The 15 unassociated funerary objects include brass bells, a small metal cone, and beads made of shell and other unidentified material. According to institutional notes, these items were removed from a Native American grave located at Fort Laramie, WY. This would have likely occurred sometime between the 1930s and 1960s when the donor was most actively collecting. The items listed here were likely originally loaned along with many other items to the museum by collector and donor Elmer E. “Peg” Walter in the 1960s, and they were then converted into a gift to the RCHSM in 1984. The items were previously mounted on a wooden board with glue, and there is still some old glue residue on the pieces (items were removed from the board in 1993).

Determinations

The RCHSM has determined that:

• The 15 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Cheyenne and Arapaho Tribes, Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 6, 2025. If competing requests for repatriation are received, the RCHSM must determine the most appropriate requestor prior to repatriation. Requests for joint repatriation of the cultural items are considered a single request and not competing requests. The RCHSM is responsible for sending a copy of this notice to the Indian Tribes and Native Hawaiian organizations identified in this notice and to any other consulting parties.

Authority: Native American Graves Protection and Repatriation Act, 25 U.S.C. 3004 and the implementing regulations, 43 CFR 10.9.

Dated: November 22, 2024.
Melanie O'Brien,
Manager, National NAGPRA Program.

[FR Doc. 2024-28496 Filed 12-4-24; 8:45 am]

BILLING CODE 4312-52-P